DEPARTMENT OF THE TREASURY

Office of the Comptroller of the Currency

Proposed Information Collection; Comment Request

AGENCY: Office of the Comptroller of the Currency (OCC), Treasury.

ACTION: Notice and request for comment.

SUMMARY: The OCC, as part of its continuing effort to reduce paperwork and respondent burden, invites the general public and other Federal agencies to take this opportunity to comment on proposed and/or continuing information collection, as required by the Paperwork Reduction Act of 1995. Currently, the OCC is soliciting comment concerning an information collection titled, “Share Exchange Notification.”

DATES: You should submit written comments by February 16, 2001.

ADDRESSES: You should direct all written comments to the Public Information Room, Attention: 1557-SHEX, Mailstop 1-5, Office of the Comptroller of the Currency, 250 E Street, SW., Washington, DC 20219. In addition, you may send comments by facsimile transmission to (202)874-4448, or by electronic mail to regs.comments@occ.treas.gov. You can inspect and photocopy the comments at the OCC's Public Information Room, 250 E Street, SW., Washington, DC on business days. You can make an appointment to inspect the comments by calling (202) 874-5043.

FOR FURTHER INFORMATION CONTACT: You can request additional information from or a copy of the collection from Jessie Dunaway or Camille Dixon, (202)874-5090, Legislative and Regulatory Activities Division (1557-SHEX), Office of the Comptroller of the Currency, 250 E Street, SW, Washington, DC 20219.

SUPPLEMENTARY INFORMATION: The OCC is proposing the following information collection:

Title: Share Exchange Notification.

OMB Number: 1557-to be assigned.

Form Number: Not applicable.

Description: This information collection consists of a notification of share exchange conducted by a national bank and its holding company. The OCC needs this information to ensure a public record of the share exchange and to provide an effective date of completion of the exchange in the event applicable state corporate law does not provide for applicability to nationally chartered institutions.

Type of Review: New collection.

Affected Public: Businesses or other for-profit.

Estimated Number of Respondents: 25.

Estimated Total Annual Responses: 25.

Frequency of Response: On occasion.

Estimated Total Annual Burden: 25 burden hours.

An agency may not conduct or sponsor, and a respondent is not required to respond to, an information collection unless the information collection displays a currently valid OMB control number.

Comments submitted in response to this notice will be summarized and included in the request for OMB approval. All comments will become a matter of public record. Comments are invited on:

(a) Whether the collection of information is necessary for the proper performance of the functions of the agency, including whether the information has practical utility;

(b) The accuracy of the agency's estimate of the burden of the collection of information;

(c) Ways to enhance the quality, utility, and clarity of the information to be collected;

(d) Ways to minimize the burden of the collection on respondents, including through the use of automated collection techniques or other forms of information technology; and

(e) Estimates of capital or startup costs and costs of operation, maintenance, and purchase of services to provide information.

Dated: December 12, 2000.
Mark J. Tenhundfeld,
Assistant Director, Legislative & Regulatory Activities Division.

[FR Doc. 00-32069 Filed 12-15-00; 8:45 am]

BILLING CODE 4810-33-P